DEPARTMENT OF HEALTH AND HUMAN SERVICES

Centers for Disease Control and Prevention

Disease, Disability, and Injury Prevention and Control Special Emphasis Panel (SEP): Initial Review

The meeting announced below concerns Special Interest Project (SIP): Systematic Review of Effective Community-based Interventions of Clinical Preventive Services for Older Adults, SIP11-045, initial review.

Correction: This notice was published in the Federal Register on August 11, 2011, Volume 76, Number 155, Page 49771. The time for the aforementioned meeting has been changed to the following.

Time

12 p.m.-2 p.m., August 31, 2011 (Closed).

Contact Person for More Information: Robin Hamre, M.P.H., R.D., Scientific Review Officer, Extramural Research Program Office, National Center for Chronic Disease Prevention and Health Promotion, CDC, 4770 Buford Highway, NE., Mailstop K-92, Atlanta, Georgia 30341, RWH9@cdc.gov.

The Director, Management Analysis and Services Office, has been delegated the authority to sign Federal Register notices pertaining to announcements of meetings and other committee management activities, for both the Centers for Disease Control and Prevention and the Agency for Toxic Substances and Disease Registry.

Elizabeth Millington,
Acting Director, Management Analysis and Services Office, Centers for Disease Control and Prevention.

[FR Doc. 2011-21217 Filed 8-18-11; 8:45 am]

BILLING CODE 4163-18-P